DEPARTMENT OF TRANSPORTATION

Research and Special Programs Administration

[Docket No. RSPA-97-2426]

Pipeline Safety: National Pipeline Mapping System

AGENCY: Office of Pipeline Safety, Research and Special Programs Administration, DOT.

ACTION: Notice; availability of operator and repository standards for National Pipeline Mapping System.

SUMMARY: The Office of Pipeline Safety (OPS) finalized “Standards for Pipeline and Liquefied Natural Gas Operator Submissions” and “Standards for the NPMS National and State Repositories” in March 1999. Copies of the National Pipeline Mapping System (NPMS) operator and repository standards are available for viewing and downloading from the NPMS Web site at www.npms.rspa.dot.gov/submissions/standards.htm and from the Docket Management System's home page at http://dms.dot.gov. from the NPMS National Repository at (703) 317-6205.

ADDRESSES: Paper copies of the NPMS operator and repository standards are available from the NPMS National Repository at (703) 317-6205 or from the Dockets Facility, U.S. Department of Transportation, Plaza 401, 400 Seventh Street, SW, Washington, DC 20590-0001. The Dockets Facility is located on the plaza level of the Nassif Building in Room 401, 400 Seventh Street, SW, Washington, DC. The Dockets Facility is open from 10:00 a.m. to 5:00 p.m., Monday through Friday, except on Federal holidays.

FOR FURTHER INFORMATION CONTACT: Steve Fischer, OPS, (202) 366-6267 or Richard Huriaux, OPS, (202) 366-4565, regarding the subject matter of this notice.

SUPPLEMENTARY INFORMATION: The National Pipeline Mapping System is a voluntary initiative that relies on pipeline operators to submit hard copy or digital pipeline data. The NPMS, when complete, will contain locational information for all natural gas and hazardous liquid transmission pipelines operating in the United States. The Office of Pipeline Safety (OPS) created NPMS standards that describe how an operator should prepare and submit pipeline data and how the NPMS repositories will process and maintain the pipeline data. The “Standards for Pipeline and Liquefied Natural Gas Operator Submissions” and “Standards for the NPMS National and State Repositories” were finalized in March 1999.

The NPMS consists of a National Repository and fifteen state repositories, including Alabama, California, Connecticut, Illinois, Kansas, Kentucky, Louisiana, Maine, Minnesota, New Jersey, Oklahoma, Pennsylvania, Texas, Virginia, and Washington. The state repositories process state pipeline data. The National Repository processes pipeline data for states without a state repository and integrates national and state data.

The NPMS will serve as a decision support tool to enable OPS to understand the relationship between pipelines and their environments, to plan effective pipeline inspection programs, to effectively respond to gas and hazardous liquid releases, and to quickly and accurately respond to requests for pipeline information. The NPMS will also serve as a community education tool that will enable local officials to make better planning and emergency response decisions.

Issued in Washington, DC on July 11, 2001.
Stacey L. Gerard,
Associate Administrator for Pipeline Safety.

[FR Doc. 01-17800 Filed 7-16-01; 8:45 am]

BILLING CODE 4910-60-P